ENVIRONMENTAL PROTECTION AGENCY

[EPA-R01-OAR-2008-0485; A-1-FRL-8698-4]

Adequacy Status of the Submitted 2009 VOC and NOX Motor Vehicle Emissions Budgets for Transportation Conformity Purposes; New Hampshire; Boston-Manchester-Portsmouth (SE), New Hampshire, 8-Hour Ozone Area.

AGENCY: Environmental Protection Agency (EPA).

ACTION: Notice of adequacy.

SUMMARY: EPA is notifying the public that EPA has found that the 2009 motor vehicle emissions budgets in the May 28, 2008 New Hampshire State Implementation Plan (SIP) revision are adequate for transportation conformity purposes. The submittal includes MOBILE 6.2 motor vehicle emission budgets for 2009 for the Boston-Manchester-Portsmouth (Southeast), New Hampshire; 8-hour ozone area. As a result of our finding, the State of New Hampshire must use these motor vehicle emission budgets for future conformity determinations for the Boston-Manchester-Portsmouth (Southeast), New Hampshire; 8-hour ozone area.

DATES: These motor vehicle emissions budgets are effective August 12, 2008.

FOR FURTHER INFORMATION CONTACT: Donald O. Cooke, Environmental Scientist, Air Quality Planning Unit, U.S. Environmental Protection Agency, EPA New England Regional Office, One Congress Street, Suite 1100 (CAQ), Boston, MA 02114-2023, (617) 918-1668, cooke.donald@epa.gov.

SUPPLEMENTARY INFORMATION: Throughout this document, whenever “we,” “us” or “our” is used, we mean EPA.

Today's notice is simply an announcement of a finding that we have already made. EPA New England sent a letter to the New Hampshire Department of Environmental Services on July 9, 2008, stating that the 2009 MOBILE6.2 motor vehicle emissions budgets (MVEBs) in the May 28, 2008 SIP are adequate for transportation conformity purposes. This submittal will also be announced on EPA's conformity Web site: http://www.epa.gov/otaq/stateresources/transconf/adequacy.htm, (once there, click on “What SIP submissions has EPA already found adequacy or inadequate?”). The adequate 2009 MVEBs are provided in the following table:

Adequate Motor Vehicle Emissions Budgets
| VOC (tons per summer day) | NOX (tons per summer day)
Year 2009 MVEBs for the Boston-Manchester-Portsmouth (Southeast), New Hampshire; 8-Hour Ozone Area. | 15.31 | 28.53

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emissions budgets are adequate for conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

Authority: 42 U.S.C. 7401-7671 q.

Dated: July 21, 2008.
Robert W. Varney,
Regional Administrator, EPA New England.

[FR Doc. E8-17223 Filed 7-25-08; 8:45 am]

BILLING CODE 6560-50-P